DEPARTMENT OF ENERGY

Federal Energy Regulatory Commission

[Docket No. EC01-68-000]

Georgia Power Company, Southern Power Company; Notice of Filing

February 28, 2001.

Take notice that on February 20, 2001, Georgia Power Company and Southern Power Company jointly filed certain errata to their February 12, 2001, “Application for Approval of the Disposition of Jurisdictional Facilities Under section 203 of the Federal Power Act,” in the above-referenced docket, in the form of corrected pages to the filing, as well as redlined pages showing the changes made.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before March 9, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-5340 Filed 3-5-01; 8:45 am]

BILLING CODE 6717-01-M